DEPARTMENT OF COMMERCE

Foreign-Trade Zones Board

[B-72-2015]

Foreign-Trade Zone (FTZ) 57—Charlotte, North Carolina, Notification of Proposed Production Activity, DNP Imagingcomm America Corporation, Subzone 57C, (Dye Sublimation Transfer Ribbon (STR) and STR Photo Printer Packages), Concord, North Carolina

The Charlotte Regional Partnership, Inc., grantee of FTZ 57, submitted a notification of proposed production activity to the FTZ Board on behalf of DNP Imagingcomm America Corporation (DNP), operator of Subzone 57C, located in Concord, North Carolina. The notification conforming to the requirements of the regulations of the FTZ Board (15 CFR 400.22) was received on October 27, 2015.

DNP already has authority to slit foreign jumbo rolls of thermal transfer ribbons (TTR) and STR and to assemble STR photo printer components (including photo printer packages—printer cartridges and paper) within Subzone 57C. The current request would add certain foreign-status materials and components to the scope of authority. DNP's new activity would involve manufacturing ink and coating polyethylene terephalate (PET) film to produce finished STR jumbo rolls. The finished STR jumbo rolls would then be slit and combined with other components to make photo cartridges that will be assembled with foreign photo paper to make photo printer packages. Pursuant to 15 CFR 400.14(b), additional FTZ authority would be limited to the specific foreign-status materials/components described in the submitted notification (as described below) and subsequently authorized by the FTZ Board.

Production under FTZ procedures could exempt DNP from customs duty payments on the foreign-status materials/components used in export production. On its domestic sales, DNP would be able to choose the duty rate during customs entry procedures that applies to the photo printer packages (duty-free) for the foreign-status materials/components noted below and in the existing scope of authority. Customs duties also could possibly be deferred or reduced on foreign-status production equipment.

The materials/components sourced from abroad include: Talc hydrated magnesium silica; silicone dioxide; polyisocyanate prepolymer; dihydroxy bis ammonium lactate-titanium (IV) 2 propanal water; zinc stearyl phosphate; isocyanate resin; 2-H benzotriazol-2YL 4.6-bis 1 methyl 1 phenylethyl phenol; substituted heterocyclic compound; paraffin and hydrocarbon waxes; ethylcarbamate derivative; indophenol derivative; solvent dye (blue, violet, yellow, red); pyrazolone derivative; 2.2-(1.2-ethenediyldi-4.1-phenylene) bisbenzoxazole; acrylic copolymer solution; epoxypropoxy propyl; black dye; hydros colloidal alumina; polyaniline-sulfonic acid; vinyl acetal polymers; acrylic resin for coating; polyvinyl butyral; polyester resin; acrylate resin; ethylene glycol monobutyl ether; copolyester; synthetic resin; polyurethane resin; methyl silsesquioxane; plastic tape/labels/film/cores/flanges/spindles/caps; empty cartridges; smart cards (radio frequency identification devices); 4.5 micron polyethylene terephalate film; and photo paper (duty rates range from free to 6.5%). The request indicates that any foreign-status inputs (including PET film) subject to an antidumping/countervailing duty (AD/CVD) order will be admitted to the zone in domestic (duty-paid) status (19 CFR Sec. 146.43).

Public comment is invited from interested parties. Submissions shall be addressed to the FTZ Board's Executive Secretary at the address below. The closing period for their receipt is December 21, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: November 4, 2015.
Elizabeth Whiteman,
Acting Executive Secretary.

[FR Doc. 2015-28646 Filed 11-9-15; 8:45 am]

BILLING CODE 3510-DS-P